DEPARTMENT OF LABOR

Employment and Training Administration

[TA-W-40,915 & NAFTA-5701]

Trend Technologies, Round Rock, TX; Notice of Determination on Reconsideration

By application dated May 16, 2002, a petitioner requested administrative reconsideration of the Department's negative determinations regarding eligibility to apply for TAA (TA-W-40,915) and NAFTA-TAA (NAFTA-5701) applicable to workers and former workers of the subject firm. The denial notices were signed on April 22, 2002 and May 3, 2002, respectively and published in the Federal Register on May 2, 2002 (67 FR 22113) and May 17, 2002 (67 FR 35142), respectively.

The initial TAA and NAFTA-TAA petition investigations for workers at Trend Technologies, Round Rock, Texas (TA-W-40,915 & NAFTA-5701) were denied based on the finding that sales and production at the subject firm did not decline during the relevant period.

The petitioner alleged that shifts in subject plant production occurred and supplied various shipping invoices depicting shifts in plant machinery to Guadalajara, Mexico during the relevant period.

A review of the data furnished by the petitioner and further clarification from the company shows that a meaningful portion of subject plant production was shifted to Mexico during the relevant period. The products produced in Mexico by Trend Technologies are then sold to their customer located in Mexico. The subject plant products are not imported back to the United States, but incorporated into the customers' computer products.

Conclusion

After careful review of the additional facts obtained on reconsideration, I conclude that there was a shift in production from the workers' firm to Mexico of articles that are like or directly competitive with those produced by the subject firm. In accordance with the provisions of the Trade Act, I make the following certification:

All workers at Trend Technologies, Round Rock, Texas (NAFTA-05701), who became totally or partially separated from employment on or after December 30, 2000, through two years from the date of certification, are eligible to apply for NAFTA-TAA under Section 250 of the Trade Act of 1974,

and

I affirm the original notice of negative determination of eligibility to apply for TAA under Section 223 of the Trade Act of 1974 for workers and former workers of Trend Technologies, Round Rock, Texas (TA-W-40,915).

Signed in Washington, DC this 17th day of June 2002.
Edward A. Tomchick,
Director, Division of Trade Adjustment Assistance.

[FR Doc. 02-18418 Filed 7-19-02; 8:45 am]

BILLING CODE 4510-30-P